FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than July 7, 2017.

A. Federal Reserve Bank of Kansas City (Dennis Denney, Assistant Vice President) 1 Memorial Drive, Kansas City, Missouri 64198-0001:

1. Erika R. Feingold Irrevocable Insurance Trust dated August 1, 1985, Chad M. Feingold Irrevocable Insurance Trust dated August 1, 1985, Chad M. Feingold Grantor Trust dated August 24, 1998, Erika R. Feingold Grantor Trust, Mark A. Morgan Family Irrevocable Trust dated January 29, 1998, Thomas S. Morgan Family Irrevocable Trust dated January 30, 1998, Mia M. Velasquez Irrevocable Trust dated October 30, 2000, Avi Velasquez Irrevocable Trust dated June 2, 2003, Marley Blake Velasquez Irrevocable Trust dated December 13, 2004, all of Overland Park, Kansas, and Marilyn R. O'Halloran Revocable Trust, Leawood, Kansas, of which Robert J. O'Halloran, Overland Park, Kansas, serves as trustee or co-trustee, and Marilyn R. O'Halloran, individually as co-trustee of the Marilyn R. O'Halloran Revocable Trust; to retain voting shares and be approved as members of the O'Halloran control group, which own voting shares of Valley View Bancshares, Inc., Overland Park, Kansas, and indirectly owns Security Bank of Kansas City, Kansas City, Kansas.

Board of Governors of the Federal Reserve System, June 16, 2017.
Yao-Chin Chao,
Assistant Secretary of the Board.

[FR Doc. 2017-12930 Filed 6-20-17; 8:45 am]

BILLING CODE 6210-01-P